Title 3—

The President

Presidential Determination No. 2006-22 of August 28, 2006

Transfers of Defense Articles and Services in Support of Sudan Security Sector Transformation (SST) Program

Memorandum for the Secretary of State

Pursuant to the authority vested in me by the Constitution and laws of the United States, including section 40(g) of the Arms Export Control Act (AECA), I hereby:

•

Determine that the transaction, encompassing transfers of defense articles and services, funded by United States Government assistance, necessary for an SST program for the Government of Southern Sudan that will support transformation of the Sudan People's Liberation Army from a guerrilla force into a smaller, conventional force is essential to the national security interests of the United States. Such transfers include the provision of vehicles and communications equipment; power generation; facilities construction/renovation; training and technical assistance; recommendations for force structure, training, equipment, infrastructure, and resource management; and other defense articles and services in support of military reform in Southern Sudan, including support to the Sudan People's Liberation Movement;

•

Waive the prohibitions in section 40 of the AECA related to such transaction; and

•

Assign to you the functions under section 40(g)(2) of the AECA to consult with and submit reports to the Congress for proposed specific exports or transfers, 15 days prior to permitting them to proceed, that are necessary for and within the scope of this determination and the transaction referred to herein.

You are authorized and directed to report this determination to the Congress and to arrange for its publication in the Federal Register.

B

THE WHITE HOUSE,

Washington, August 28, 2006.

[FR Doc. 06-7616

Filed 9-11-06; 8:45 am]

Billing code 4710-10-P